DEPARTMENT OF ENERGY

Proposed Subsequent Arrangement

AGENCY: Office of Nonproliferation and Arms Control, Department of Energy.

ACTION: Proposed subsequent arrangement.

SUMMARY: This document is being issued under the authority of section 131a. of the Atomic Energy Act of 1954, as amended. The Department is providing notice of a proposed subsequent arrangement under Article 6 paragraph 2 of the Agreement for Cooperation Between the Government of the United States of America and the Government of the Republic of Indonesia Concerning Peaceful Uses of Nuclear Energy.

DATES: This subsequent arrangement will take effect no sooner than March 8, 2016.

FOR FURTHER INFORMATION CONTACT: Mr. Sean Oehlbert, Office of Nonproliferation and Arms Control, National Nuclear Security Administration, Department of Energy. Telephone: 202-586-3806 or email: Sean.Oehlbert@nnsa.doe.gov.

SUPPLEMENTARY INFORMATION: This subsequent arrangement concerns the alteration in form or content of 1.3 kg of U.S.-origin highly enriched uranium (HEU), 1.21 kg of which is in the isotope of U-235 (93 percent enrichment) and currently located at PT Industri Nuklir (PT INUKI) in Serpong, Indonesia, through down-blending to reduce its enrichment to less than 20 percent U-235. The purpose of the down-blending of the HEU is to achieve permanent threat reduction by eliminating HEU from Indonesia. PT INUKI will down-blend the HEU contained in 514 bottles of irradiated HEU targets in liquid form and 14 containers of un-irradiated liquid HEU used in the plating process for medical isotope production, on-site at the Pusat Penelitian Ilmu Pengetahuan dan Teknologi facility in Serpong. The quantity of uranium will increase from 1.3 kg to 6.72 kg while the U-235 enrichment will decrease from 93 percent to 18 percent. The down-blend operation is scheduled to last for approximately three months.

In accordance with section 131a. of the Atomic Energy Act of 1954, as amended, it has been determined that this subsequent arrangement concerning the alteration in form or content of nuclear material of United States origin will not be inimical to the common defense and security of the United States of America.

Dated: February 11, 2016.
For the Department of Energy.
Anne M. Harrington,
Deputy Administrator, Defense Nuclear Nonproliferation.

[FR Doc. 2016-03572 Filed 2-19-16; 8:45 am]

BILLING CODE 6450-01-P